DEPARTMENT OF THE INTERIOR

National Park Service

Draft General Management Plan and Environmental Impact Statement, Cedar Creek and Belle Grove National Historical Park, VA

AGENCY: National Park Service, Department of the Interior.

ACTION: Notice of availability.

SUMMARY: Pursuant to section 102 (2)(C) of the National Environmental Policy Act (NEPA) of 1969 (Pub. L. 91-190, as amended), the National Park Service (NPS) announces the availability of the Draft General Management Plan and Environmental Impact Statement (GMP/EIS) for Cedar Creek and Belle Grove National Historical Park, Virginia.

Consistent with National Park Service laws, regulations, policies, and the purposes of the National Historical Park, the Draft GMP/EIS describes and analyzes four alternatives (A-D) to guide the management of the park over the next 20 years. The alternatives incorporate various management prescriptions to addresss the following issues: protecting park resources and values, interpretation, visitor facilities and services, access and circulation, related resources, partnership collaboration, and technical assistance.

Alternative A is continuation of current management practices. Visitors would experience the park at sites owned and independently managed by the Key Partners. The NPS would provide technical assistance and bring national recognition and visibility to the park by virtue of being part of the national park system.

Under Alternative B, visitors would experience the park at sites owned by the Key Partners and through electronic media and NPS ranger led tours and programs. Visitors would access the park via auto-touring routes and a few non-motorized trails located on Key Partner properties. The primary NPS role would be to provide interpretive programs and technical assistance. The Key Partners would have the responsibility for land and resource protection. There would be increased collaboration among the NPS and the Key Partners, with the NPS serving as a coordinator for resource and planning issues.

Under Alternative C, visitors would experience the park at a NPS-developed and managed visitor center and at visitor focal areas owned and managed by the NPS and the Key Partners. The NPS and the Key Partners would coordinate interpretive programs at these sites. Visitors would access the park via auto-touring routes and a system of non-motorized trails that provides opportunities for interpretation. The NPS and the Key Partners would develop a coordinated land protection plan focused on protection of key historic sites that would become focal areas. The NPS and the Key Partners would develop formal agreements to undertake special projects and general park management.

Alternative D is the preferred alternative. Under this alternative, visitors would experience the park at a NPS-developed and managed visitor center and at visitor focal areas owned and managed by the NPS and the Key Partners. The NPS and the Key Partners would coordinate interpretive programs at these sites. Visitors would access the park via auto-touring routes and an extensive system of non-motorized trails that provides opportunities for interpretation and recreation, that connect focal areas, and that tie to communities and resources outside the park. The NPS and the Key Partners would develop a coordinated land protection plan focused on protection of cultural landscapes, sensitive natural resource areas, and lands providing connections between NPS and Key Partner properties. The NPS and the Key Partners would develop formal agreements that define responsibilities for special projects, programs, events, and specific park operations.

The Draft GMP/EIS evaluates the potential environmental consequences of implementing the alternatives. Impact topics include the cultural, natural, and socioeconomic environments. This notice also announces that public meetings will be held to solicit comments on the Draft GMP/EIS during the public review period. Dates, times, and locations will be announced on the agency's planning Web site http://parkplanning.nps.gov/cebe, in local papers, and can be obtained by calling the park office at (540) 868-9176.

Public Review: There are several ways to view the document:

• An electronic version of the document will be available for download, review, and comment on the agency's planning Web site http://parkplanning.nps.gov/cebe.

• CDs and a limited number of printed copies can be requested by contacting the park at (540) 868-9176 or by e-mailing park planner Christopher Stubbs at chris_stubbs@nps.gov.

• The document will be available for review at the park office at 7718½ Main St., Middletown, VA 22645.

The National Park Service will accept comments on the Draft GMP/EIS from the public for a period of 90 days following publication of the Environmental Protection Agency's Notice of Availability in the Federal Register. Interested persons may check the planning Web site at http://parkplanning.nps.gov/cebe for dates, times, and places of public meetings to be conducted by the NPS, or by calling (540) 868-9176.

If you wish to comment, you may do so by any one of several methods. The preferred method of comment is via the internet at http://parkplanning.nps.gov/cebe. You may mail your comments to Superintendent Diann Jacox, Cedar Creek and Belle Grove NHP, P.O. Box 700, Middletown, VA 22645. You may also hand deliver your comments to the National Park Service office at 7718½ Main St., Middletown, VA. If you include your address, phone number, e-mail address, or other personal identifying information in your comment, you should be aware that your entire comment—including your personal identifying information—may be made publicly available at any time. While you can ask us in your comment to withhold your personal identifying information from public review, we cannot guarantee that we will be able to do so.

SUPPLEMENTARY INFORMATION: Cedar Creek and Belle Grove National Historical Park was created by Congress in December 2002 to help preserve, protect, and interpret a nationally significant Civil War landscape and antebellum plantation; to tell the rich story of Shenandoah Valley history; to preserve historic, natural, cultural, military, and scenic resources; and to serve as a focal point within the Shenandoah Valley Battlefields National Historic District. The park is located in Virginia's Shenandoah Valley, adjacent to the historic towns of Middletown and Strasburg, and is within the counties of Frederick, Shenandoah, and Warren. The park consists of approximately 3,712 acres that includes prehistoric resources, ecologically important areas, evidence of valley settlement and early European history of the region, examples of plantation life and culture, and significant Civil War resources. In the enabling legislation for the park, Congress established a Federal Advisory Commission to advise in the preparation of a GMP, and Key Partner organizations who may continue to own and manage properties within the park.

The Draft GMP/EIS sets forth alternative visions (management alternatives) for the development and operation of Cedar Creek and Belle Grove National Historical Park. This plan is the product of collaboration between the National Park Service, the Federal Advisory Commission, and the Key Partners to provide for the preservation and public enjoyment of the National Historical Park for the next 15 to 20 years.

FOR FURTHER INFORMATION CONTACT: Diann Jacox, Superintendent, Cedar Creek and Belle Grove National Historical Park, (540) 868-9176.

Dated: February 7, 2008.
Dennis R. Reidenbach,
Regional Director, Northeast Region, National Park Service.

Editorial Note: This document was received in the Office of the Federal Register on November 21, 2008.

[FR Doc. E8-28115 Filed 11-25-08; 8:45 am]

BILLING CODE 4310-AR-P